DEPARTMENT OF DEFENSE

GENERAL SERVICES ADMINISTRATION

NATIONAL AERONAUTICS AND SPACE ADMINISTRATION

48 CFR Chapter 1

[Docket No. FAR 2015-0051, Sequence No. 4]

Federal Acquisition Regulation; Federal Acquisition Circular 2005-84; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2005-84, which amends the Federal Acquisition Regulation (FAR). An asterisk (*) next to a rule indicates that a regulatory flexibility analysis has been prepared. Interested parties may obtain further information regarding these rules by referring to FAC 2005-84, which precedes this document. These documents are also available via the Internet at http://www.regulations.gov.

DATES: September 3, 2015.

FOR FURTHER INFORMATION CONTACT: For clarification of content, contact the analyst whose name appears in the table below. Please cite FAC 2005-84 and the FAR case number. For information pertaining to status or publication schedules, contact the Regulatory Secretariat at 202-501-4755.

Rules Listed in FAC 2005-84
Item | Subject | FAR Case | Analyst
* I | EPEAT Items | 2013-016 | Gray.
II | Technical Amendments

SUPPLEMENTARY INFORMATION: Summaries for each FAR rule follow. For the actual revisions and/or amendments made by these rules, refer to the specific item numbers and subjects set forth in the documents following these item summaries. FAC 2005-84 amends the FAR as follows:

Item I—EPEAT Items (FAR Case 2013-016)

This rule finalizes an interim rule that implemented changes in the Electronic Product Environmental Assessment Tool (EPEAT®)-registry requirements at FAR subpart 23.7. The FAR requirement to procure EPEAT®-registered products was revised to incorporate the revised standard applicable to personal computer products and to add the standards for imaging equipment and televisions. The final rule also amends the procedures relating to the exceptions to the requirement to procure EPEAT®-registered products. There is no significant economic impact on small businesses.

Item II—Technical Amendments

Editorial changes are made at FAR 4.605(e), 31.205-6(o)(2)(iii)(A), 35.017-7 Introductory text, 52.213-4(b)(1)(ix) and 52.219-1 Alternate I (c)(9).

Dated: August 26, 2015.
William Clark,
Director, Office of Government-wide Acquisition Policy, Office of Acquisition Policy, Office of Government-wide Policy.

[FR Doc. 2015-21752 Filed 9-2-15; 8:45 am]

BILLING CODE 6820-EP-P